ENVIRONMENTAL PROTECTION AGENCY

40 CFR Part 81

[EPA-R09-OAR-2010-0718; FRL-9219-8]

Determinations of Attainment by the Applicable Attainment Date for the Hayden, Nogales, Paul Spur/Douglas PM10 Nonattainment Areas, Arizona

AGENCY: Environmental Protection Agency (EPA).

ACTION: Proposed rule.

SUMMARY: EPA proposes to determine that the Hayden, Nogales, and Paul Spur/Douglas nonattainment areas in Arizona attained the National Ambient Air Quality Standard (NAAQS) for particulate matter with an aerodynamic diameter of less than or equal to a nominal ten micrometers (PM10) by the applicable attainment date of December 31, 1994. On the basis of this proposed determination, EPA concludes that these three “moderate” nonattainment areas are not subject to reclassification by operation of law to “serious.” Lastly, on the basis of a review of more recent ambient monitoring data, EPA also is proposing to determine that the Hayden, Nogales and Paul Spur/Douglas nonattainment areas are not currently attaining the PM10 standard.

DATES: Comments must be received on or before December 2, 2010.

ADDRESSES: Submit comments, identified by docket number EPA-R09-OAR-2010-0718, by one of the following methods:

1. Federal eRulemaking Portal: http://www.regulations.gov. Follow the on-line instructions.

2. E-mail: tax.wienke@epa.gov.

3. Mail or Deliver: Wienke Tax, Air Planning Office, EPA Region IX, 75 Hawthorne Street, San Francisco, CA 94105-3901.

Please see the direct final rule which is located in the Rules section of this Federal Register for detailed instructions on how to submit comments.

FOR FURTHER INFORMATION CONTACT: Wienke Tax at telephone number: (415) 947-4192; e-mail address: tax.wienke@epa.gov, or the above EPA, Region IX address.

SUPPLEMENTARY INFORMATION: For further information, please see the direct final action, of the same title, which is located in the Rules section of this Federal Register. EPA is determining that the Hayden, Nogales, and Paul Spur/Douglas nonattainment area attained the PM10 standard by the applicable attainment date (1994), and that the three areas are not currently attaining the standard, as a direct final rule without prior proposal because EPA views this as a noncontroversial action and anticipates no adverse comments. A detailed rationale for the determinations is set forth in the preamble to the direct final rule. If EPA receives no adverse comments, EPA will not take further action on this proposed rule.

If EPA receives adverse comments, EPA will withdraw the direct final rule and it will not take effect. EPA will address all public comments in a subsequent final rule based on this proposed rule. EPA will not institute a second comment period on this action. Any parties interested in commenting on this action should do so at this time. Please note that if we receive adverse comment on one of the determinations, EPA may adopt as final those determinations that are not the subject of an adverse comment.

Dated: October 25, 2010.
Jared Blumenfeld,
Regional Administrator, EPA Region IX.

[FR Doc. 2010-27635 Filed 11-1-10; 8:45 am]

BILLING CODE 6560-50-P